DEPARTMENT OF HEALTH AND HUMAN SERVICES

National Institutes of Health

National Institute on Aging; Cancellation of Meeting

Notice is hereby given of the cancellation of the National Institute on Aging Special Emphasis Panel, December 18, 2013, 2:00 p.m. to December 18, 2013, 3:15 p.m., National Institute of Aging, Gateway Building, 7201 Wisconsin Avenue, Suite 2C212, Bethesda, MD 20892, which was published in the Federal Register on November 8, 2013, 67177 FR 217.

The meeting was entitled Member Conflict.

Dated: November 13, 2013.
Melanie J. Gray,
Program Analyst, Office of Federal Advisory Committee Policy.

[FR Doc. 2013-27598 Filed 11-18-13; 8:45 am]

BILLING CODE 4140-01-P